DEPARTMENT OF COMMERCE

International Trade Administration

[A-570-182, A-552-845]

Thermoformed Molded Fiber Products From the People's Republic of China and the Socialist Republic of Vietnam: Antidumping Duty Orders

AGENCY: Enforcement and Compliance, International Trade Administration, Department of Commerce.

SUMMARY: Based on the affirmative final determinations by the U.S. Department of Commerce (Commerce) and the U.S. International Trade Commission (ITC), Commerce is issuing the antidumping (AD) orders on thermoformed molded fiber products (molded fiber products) from the People's Republic of China (China) and the Socialist Republic of Vietnam (Vietnam).

DATES: Applicable January 27, 2026.

FOR FURTHER INFORMATION CONTACT: Dennis McClure or Matthew Lipka (China) and Zachary Shaykin (Vietnam), AD/CVD Operations, Offices VIII and IV, Enforcement and Compliance, International Trade Administration, U.S. Department of Commerce, 1401 Constitution Avenue NW, Washington, DC 20230; telephone: (202) 482-5973, (202) 482-7976, or (202) 482-2638, respectively.

SUPPLEMENTARY INFORMATION:

Background

In accordance with sections 735(d) and 777(i) of the Tariff Act of 1930, as amended (the Act), on September 30, 2025, Commerce published its affirmative final determinations of sales at less-than-fair-value (LFTV) of molded fiber products from China and Vietnam.¹

¹ See Thermoformed Molded Fiber Products from the People's Republic of China: Final Affirmative Determination of Sales at Less Than Fair Value, 90 FR 46800 (September 30, 2025) (China Final Determination); see also Thermoformed Molded Fiber Products from the Socialist Republic of Vietnam: Final Affirmative Determination of Sales at Less Than Fair Value, 90 FR 46791 (September 30, 2025) (Vietnam Final Determination) (collectively, the Final Determinations).

On January 5, 2025, the ITC notified Commerce of its final affirmative determinations that an industry in the United States is materially injured within the meanings of 735(b)(1)(A)(i) of the Act, by reason of imports of thermoformed molded fiber products from China and Vietnam sold in the United States at less than fair value.²

² See ITC's Letter, “Notification of ITC Final Determination, ” dated January 5, 2026 (ITC Notification Letter).

Scope of the Orders

The products covered by these orders are molded fiber products from China and Vietnam. For a complete description of the scope of the orders, see the appendix to this notice.

Antidumping Duty Orders

Based on the above-referenced final determinations, in accordance with sections 735(c)(2) and 736 of the Act, Commerce is issuing these AD orders. Because the ITC determined that imports of molded fiber products from China and Vietnam are materially injuring a U.S. industry, unliquidated entries of such merchandise from China and Vietnam, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise for all relevant entries of molded fiber products from China and Vietnam. Antidumping duties will be assessed on unliquidated entries of molded fiber products from China and Vietnam entered, or withdrawn from warehouse, for consumption on or after May 12, 2025, the date of publication of the Preliminary Determinations,³ but will not include entries occurring after the expiration of the provisional measures period and before publication of the ITC's final injury determination, as further described in the “Provisional Measures” section of this notice.

³ See Thermoformed Molded Fiber Products from the People's Republic of China: Preliminary Affirmative Determination of Sales at Less Than Fair Value, Postponement of Final Determination and Extension of Provisional Measures, 90 FR 20147 (May 12, 2025), and accompanying Preliminary Decision Memorandum (PDM); Thermoformed Molded Fiber Products from the People's Republic of China: Correction and Amended Preliminary Determination at Sales at Less Than Fair Value, 90 FR 24590 (June 11, 2025); Thermoformed Molded Fiber Products from the Socialist Republic of Vietnam: Preliminary Affirmative Determination of Sales at Less Than Fair Value, Postponement of Final Determination and Extension of Provisional Measures, 90 FR 20153 (May 12, 2025), and accompanying PDM (collectively, the Preliminary Determinations).

Suspension of Liquidation and Cash Deposits

In accordance with section 736 of the Act, Commerce intends to instruct CBP to reinstitute the suspension of liquidation of molded fiber products from China and Vietnam effective the date of publication of the ITC's final affirmative injury determinations in the Federal Register. These instructions suspending liquidation will remain in effect until further notice. Commerce also intends to instruct CBP to require cash deposits equal to the estimated weighted-average dumping margins, adjusted by the relevant subsidy offsets, indicated in the Final Determinations.⁴ The rates for the China- and Vietnam-wide entities applies to all producers and exporters from China and Vietnam, respectively, not specifically listed, as appropriate.

⁴ See China Final Determination, 90 FR at 46802-03; Vietnam Final Determination, 90 FR at 46793.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of exports of thermoformed molded fiber products from China and Vietnam, Commerce extended the four-month period to six months in these investigations.⁵

⁵ See Preliminary Determinations, 90 FR at 20152, 20155.

The provisional measures period, beginning on the date of publication of the Preliminary Determinations, ended on November 8, 2025. Therefore, in accordance with section 733(d) of the Act and our practice,⁶ Commerce instructed CBP to terminate the suspension of liquidation and to liquidate, without regard to antidumping duties, unliquidated entries of thermoformed molded fiber products from China and Vietnam entered, or withdrawn from warehouse, for consumption after November 8, 2025, the final day on which the provisional measures were in effect, until and through the day preceding the date of publication of the ITC's final affirmative injury determination in the Federal Register. Suspension of liquidation and the collection of cash deposits will resume on the date of publication of the ITC's final determination in the Federal Register.

⁶ See, e.g., Certain Corrosion-Resistant Steel Products from India, Italy, the People's Republic of China, the Republic of Korea and Taiwan: Amended Final Affirmative Antidumping Determination for India and Taiwan, and Antidumping Duty Orders, 81 FR 48390, 48392 (July 25, 2016).

Establishment of the Annual Inquiry Service Lists

On September 20, 2021, Commerce published the Final Rule in the Federal Register.⁷ On September 27, 2021, Commerce also published the Procedural Guidance in the Federal Register.⁸ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

⁷ See Regulations to Improve Administration and Enforcement of Antidumping and Countervailing Duty Laws, 86 FR 52300 (September 20, 2021) (Final Rule).

⁸ See Scope Ruling Application; Annual Inquiry Service List; and Informational Sessions, 86 FR 53205 (September 27, 2021) (Procedural Guidance).

In accordance with the Procedural Guidance, for an order published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ⁹

⁹ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁰ the new annual inquiry service list will be in place until the following year, when the Opportunity Notice for the anniversary month of the order is published.

¹⁰ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹¹ Accordingly, as stated above, the petitioner and the Governments of China and Vietnam should submit their initial entries of appearance after publication of this notice in order to appear in the first annual inquiry service lists for this order. Pursuant to 19 CFR 351.225(n)(3), the petitioner and the Governments of China and Vietnam will not need to resubmit their entries of appearance each year to continue to be included on the annual inquiry service list. However, the petitioner and the Governments of China and Vietnam are responsible for making amendments to their entries of appearance during the annual update to the annual inquiry service list in accordance with the procedures described above.

¹¹ See Final Rule, 86 FR at 52335.

Notification to Interested Parties

This notice constitutes the AD orders with respect to molded fiber products from China pursuant to sections 736(a) of the Act. Interested parties can find a list of duty orders currently in effect at https://www.trade.gov/data-visualization/adcvd-proceedings.

These orders are published in accordance with sections 736(a) of the Act, and 19 CFR 351.211(b).

Dated: January 22, 2026.
Christopher Abbott,
Deputy Assistant Secretary for Policy and Negotiations, performing the non-exclusive functions and duties of the Assistant Secretary for Enforcement and Compliance.

Appendix

Scope of the Orders

The merchandise subject to these orders consists of thermoformed molded fiber products regardless of shape, form, function, fiber source, or finish. Thermoformed molded fiber products are formed with cellulose fibers, thermoformed using one or more heated molds, and dried/cured in the mold.

Thermoformed molded fiber products include, but are not limited to, plates, bowls, clamshells, trays, lids, food or foodservice contact packaging, and consumer or other product packaging.

Thermoformed molded fiber products are relatively dense, with a typical fiber density above 0.5 grams per cubic centimeter, and are generally characterized by relatively smooth surfaces. They may be derived from any virgin or recycled cellulose fiber source (including, but not limited to, those sourced from wood, woody crops, agricultural crops/byproducts/residue, and agricultural/industrial/other waste). They may have any weight, shape, dimensionality, design, or size, and may be bleached, unbleached, dyed, colored, or printed. They may include ingredients, additives, or chemistries to enhance functionality including, but not limited to, anti-microbial, anti-fungal, anti-bacterial, heat/flame resistant, hydrophobic, oleophobic, absorbent, or adsorbent. Thermoformed molded fiber products may also be subject to other processing or treatments, including, but not limited to, hot or after pressing, die-cutting, punching, trimming, padding, perforating, printing, labeling, dying, coloring, coating, laminating, embossing, debossing, repacking, or denesting. Thermoformed molded fiber products subject to these orders may also have additional design features, including, but not limited to, tab closures, venting, channeling, or stiffening.

Thermoformed molded fiber products remain covered by the scope of these orders if the subject product is encased by exterior packaging. They also remain covered by the scope of these orders whether imported alone, or in any combination of subject and non-subject merchandise (e.g., a lid or cover of any type packaged with a molded fiber bowl, addition of any items to make the thermoformed molded fiber packaging suitable for end-use such as absorbent pads). When thermoformed molded fiber products are imported in combination with non-subject merchandise, only the thermoformed molded fiber products are subject merchandise.

Also excluded from the scope of these orders are products covered by the scope of the antidumping and countervailing duty orders on paper plates from People's Republic of China, the Kingdom of Thailand, and the Socialist Republic of Vietnam.

Excluded from the scope of these orders are thermoformed molded fiber products imported as packaging material that enclose and/or surround non-subject merchandise prepackaged for final sale upon importation into the United States (e.g., molded fiber packaging surrounding a cellular phone).

Thermoformed molded fiber products include thermoformed molded fiber products matching the above description that have been finished, packaged, or otherwise processed in a third country by performing finishing, packaging, or processing that would not otherwise remove the merchandise from the scope of these orders if performed in the country of manufacture of the thermoformed molded fiber products. Examples of finishing, packaging, or other processing in a third country that would not otherwise remove the merchandise from the scope of these orders if performed in the country of manufacture of the thermoformed molded fiber products include, but are not limited to, hot or after pressing, die-cutting, punching, trimming, padding, perforating, printing, labeling, dying, coloring, coating, laminating, embossing, debossing, repacking, or denesting.

Thermoformed molded fiber products are classified under subheadings 4823.70.0020 and 4823.70.0040, Harmonized Tariff Schedule of the United States (HTSUS). Imports may also be classified under subheadings 4823.61.0020, 4823.61.0040, 4823.69.0020, 4823.69.0040, 4823.90.1000, HTSUS. References to the HTSUS classification are provided for convenience and customs purposes, and the written description of the merchandise of these orders is dispositive.

[FR Doc. 2026-01604 Filed 1-26-26; 8:45 am]

BILLING CODE 3510-DS-P